DEPARTMENT OF DEFENSE

Office of the Secretary

[Transmittal Nos. 11-25]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Mr. John Unglesbee, DSCA/DBO/CFM, (703) 601-6026.

The following is a copy of a letter to the Speaker of the House of Representatives, Transmittal 11-25 with attached transmittal, policy justification, and Sensitivity of Technology.

Dated: July 5, 2011.
Aaron Siegel,
Alternate OSD Federal Register Liaison Officer, Department of Defense.

BILLING CODE 5001-06-P

BILLING CODE 5001-06-C

Transmittal No. 11-25

Notice of Proposed Issuance of Letter of Offer Pursuant to Section 36(b)(1) of the Arms Export Control Act, as Amended

(i) Prospective Purchaser: United Kingdom

(ii) Total Estimated Value:

Major Defense Equipment* | $50 million
Other | 40 million
Total | 90 million
* as defined in Section 47(6) of the Arms Export Control Act.

(iii) Description and Quantity or Quantities of Articles or Services under Consideration for Purchase: 7 Ship's Signal Exploitation Equipment (SSEE) Increment F, 7 Selective Availability Anti-Spoofing Modules (SAASM) GPS Receivers, and 7 System Signal and Direction Finding Stimulator packages, spare and repair parts, personnel training and training equipment, support equipment, U.S. Government and contractor engineering, logistics, and technical support services, testing, publications and technical documentation, Fleet Information Operation Center upgrades, installation, life cycle support, and other related elements of logistics support.

(iv) Military Department: Navy (LUK)

(v) Prior Related Cases, if any: None

(vi) Sales Commission, Fee, etc., Paid, Offered, or Agreed to be Paid: None

(vii) Sensitivity of Technology Contained in the Defense Article or Defense Services Proposed to be Sold: See Annex attached

(viii) Date Report Delivered to Congress:

POLICY JUSTIFICATION

United Kingdom—Ship's Signal Exploitation Equipment (SSEE) Increment F

The Government of the United Kingdom (UK) has requested the sale of 7 Ship's Signal Exploitation Equipment (SSEE) Increment F, 7 Selective Availability Anti-Spoofing Modules (SAASM) GPS Receivers, and 7 System Signal and Direction Finding Stimulator packages, spare and repair parts, personnel training and training equipment, support equipment, U.S. Government and contractor engineering, logistics, and technical support services, testing, publications and technical documentation, Fleet Information Operation Center upgrades, installation, life cycle support, and other related elements of logistics support. The estimated cost is $90 million.

This proposed sale will contribute to the foreign policy and national security of the United States by helping to maintain and improve the security of a key NATO partner that has been, and continues to be, an important force for political stability and economic power in Europe.

The UK is procuring SSEE increment F as a Cryptologic Electronic Warfare Support Measure (CESM) replacement program for the Cooperative Outboard Logistics Update (COBLU) currently fitted on Type 22 Frigates and it will be the future maritime CESM system fitted on the Type 45 Destroyers. It is expected the UK will be able to fully absorb and utilize the Communications Intelligence (COMINT) system and capability.

The proposed sale of this equipment and support will not alter the basic military balance in the region.

The prime contractor will be Argon ST in Fairfax, Virginia.

There are no known offset agreements proposed in connection with this potential sale.

Implementation of this sale will require the temporary assignment of three U.S. Government and seven contractor representatives to the UK to provide installation, testing, training, and support for one to two months per year through 2018.

There will be no adverse impact on U.S. defense readiness as a result of this proposed sale.

Transmittal No. 11-25

Notice of Proposed Issuance of Letter of Offer Pursuant to Section 36(b)(1) of the Arms Export Control Act, as Amended

Annex

Item No. vii

(vii) Sensitivity of Technology:

1. SSEE Increment F is an Information Operations (IO) system that provides IO, Electronic Support (ES), and Direction Finding (DF) capabilities. The system's software is partitioned into three segments: acquisition, processing, and services. The first two segments can be considered the “sensor” part of the system, providing the main User Interface through a web portal, and access to SSEE Increment F services via standard Service Oriented Architecture (SOA) interfaces via Extensible Markup Language (XML). The SSEE Increment F suite of hardware is Unclassified.

2. If a technology advanced adversary were to obtain knowledge of the specific hardware and software elements, the information could be used to develop countermeasures that might reduce SSEE Increment F's system effectiveness or be used in the development of a system with similar or advanced capabilities.

[FR Doc. 2011-17240 Filed 7-8-11; 8:45 am]

BILLING CODE 5001-06-P